DEPARTMENT OF THE INTERIOR

Bureau of Land Management

[NM-020-02-7122-DS-64GG]

New Mexico; Notice of Intent To Prepare a Plan Amendment to the Taos Resource Management Plan With an Associated National Environmental Policy Act (NEPA) Documentation

AGENCY: Bureau of Land Management, Department of the Interior.

ACTION: Notice of intent to amend the Taos Field Office's Resource Management Plan (RMP) and preparation of an associated NEPA document.

SUMMARY: Pursuant to 43 CFR 1600, the Bureau of Land Management (BLM), Taos Field Office is considering an amendment to the Taos Resource Management Plan (RMP) to provide for the possible disposal of approximately 640 acres, more or less, of public land in Rio Arriba County, New Mexico, and to provide improvements associated with access.

This amendment will be addressed through an Environmental Assessment (EA) or an Environmental Impact Statement (EIS). The level of NEPA documentation will be determined following public scoping.

As a part of the public participation process, the public is invited to submit comments on this proposal for consideration in the RMP Amendment/NEPA documentation. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Written comments should be sent to: Lora Yonemoto, Taos BLM Field Office, 226 Cruz Alta Rd., Taos, NM 87571. If you are not currently on our mailing list and wish to receive meeting notices and copies of planning documents, please send your name and address to the address listed above.

FOR FUTHER INFORMATION CONTACT: Lora Yonemoto at the address above, or call 505-758-8851.

SUPPLEMENTARY INFORMATION: The following described public land in Rio Arriba County, New Mexico, will be examined for possible disposal under sections 209 and 212 of the Federal Land Policy and Management Act of 1976, 43 U.S.C 1713 and 1719 and the Recreation and Public Purposes Act of 1926, as amended by the Recreation and Public Purpose Amendment Act of 1988.

T. 23 N., R. 9 E.,

Sec. 6.

The land described above contains 640 acres, more or less.

An amendment to the RMP and associated environmental documentation (EA or EIS) will be completed for this action. If the land is found suitable for disposal, the United States would offer it to the North Central Solid Waste Authority (NCSWA) at $10.00 per acre, and a right-of-way grant for the associated access. This action would provide the member organizations within the NCSWA with a site for solid waste disposal. The public is invited to provide scoping comments on the issues that should be addressed in the plan amendment and EA or EIS. The following resources will be considered in the preparation of the plan amendment: lands, wildlife, range, minerals, cultural resources, watershed/soils, threatened/endangered species, visual, and hazardous materials. Staff specialists representing these resources will make up the planning team. Several public meetings are planned. Public meetings will be announced in the Rio Grande Sun newspaper and at the Taos BLM web page (www.nm.blm.gov/www/tafo/tafo_home.html). At least 15 days prior notice will be given before a meeting is held. Written comments will be accepted for at least 15 days after the last scoping meeting is held. Comments on the scope of the proposed plan amendment and environmental document should be sent to Lora Yonemoto at the address above no later than 45 days after publication of this notice in the Federal Register.Current land use planning information is available at the Taos Field Office. Office hours are 7:45 a.m. to 4:30 p.m., Monday through Friday, except holidays.

Dated: May 16, 2002.
Carsten F. Goff,
New Mexico Acting State Director.

[FR Doc. 02-22391 Filed 8-30-02; 8:45 am]

BILLING CODE 4310-FB-P